DEPARTMENT OF ENERGY

Federal Energy Regulatory Commission

Combined Notice of Filings

Take notice that the Commission has received the following Natural Gas Pipeline Rate and Refund Report filings:

Docket Numbers: RP01-382-031.

Applicants: Northern Natural Gas Company.

Description: Northern Natural Gas Company submits Carlton Reimbursement Report under RP01-382.

Filed Date: 6/1/21.

Accession Number: 20210601-5295.

Comments Due: 5 p.m. ET 6/14/21.

Docket Numbers: RP21-891-000.

Applicants: WTG Hugoton, LP.

Description: § 4(d) Rate Filing: WTGH Address Change Filing (July 1, 2021) to be effective 7/1/2021.

Filed Date: 6/8/21.

Accession Number: 20210608-5052.

Comments Due: 5 p.m. ET 6/21/21.

Docket Numbers: RP21-892-000.

Applicants: Transcontinental Gas Pipe Line Company, LLC.

Description: Compliance filing Rate Schedule S-2 Flow Through Refund Report OFO Penalty to be effective N/A.

Filed Date: 6/8/21.

Accession Number: 20210608-5074.

Comments Due: 5 p.m. ET 6/21/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 9, 2021.
Debbie-Anne A. Reese,
Deputy Secretary.

[FR Doc. 2021-12508 Filed 6-14-21; 8:45 am]

BILLING CODE 6717-01-P